DEPARTMENT OF COMMERCE

International Trade Administration

A-570-867

Automotive Replacement Glass Windshields From The People's Republic of China: Notice of Rescission of the Antidumping Duty Administrative Review

AGENCY: Import Administration, International Trade Administration, Department of Commerce.

SUMMARY: On May 27, 2004, in response to timely requests from an exporter of, and a U.S. importer of, merchandise subject to the order on certain automotive replacement glass (“ARG”) windshields from the People's Republic of China (“PRC”), in accordance with section 751(a) of the Tariff Act of 1930, as amended (“the Act”), the Department of Commerce (“Department”) published in the Federal Register a notice of initiation of this antidumping duty administrative review of sales by certain exporters/producers. See Initiation of Antidumping and Countervailing Duty Administrative Reviews and Request for Revocation in Part, 70 FR 30694 (May 27, 2005) (“Initiation Notice”). Because Shenzhen CSG Automotive Glass Co., Ltd. (“CSG”) and Pilkington North America, Inc (“PNA”) have withdrawn their requests for administrative review and no other parties requested an administrative review of these entities, the Department is rescinding this review of sales by CSG and PNA in accordance with 19 CFR 351.213(d)(1).

EFFECTIVE DATE: October 12, 2005.

FOR FURTHER INFORMATION CONTACT: Jon Freed or Will Dickerson, Import Administration, International Trade Administration, U.S. Department of Commerce, 14th Street and Constitution Avenue, NW, Washington, DC 20230; telephone: (202) 482-3818 and (202) 482-1778, respectively.

SUPPLEMENTARY INFORMATION:

Background

On April 4, 2002, the Department published in the Federal Register the antidumping duty order on ARG windshields from the PRC. See Antidumping Duty Order: Automotive Replacement Glass Windshields from the People's Republic of China, 67 FR 16087 (April 4, 2002). On April 1, 2005, the Department published a notice of opportunity to request an administrative review of the antidumping duty order on ARG windshields from the PRC for the period April 1, 2004, through March 31, 2005. See Antidumping or Countervailing Duty Order, Finding, or Suspended Investigation: Opportunity to Request Administrative Review, 70 FR 16799 (April 1, 2005). On April 18, 2005, PNA, an importer of subject merchandise, requested an administrative review on behalf of Changchun Pilkington Safety Glass Company Limited and Wuhan Yaohua Pilkington Safety Glass Company Limited (collectively, “the Pilkington JVs”), producers and exporters from which it imported the subject merchandise during the period of review (“POR”). On April 22, 2005, CSG, a producer and exporter of subject merchandise, requested an administrative review of its sales to the United States during the POR. On May 27, 2005, the Department published in the Federal Register a notice of the initiation of the antidumping duty administrative review of ARG windshields from the PRC for the POR. See Initiation Notice. On June 13, 2005, the Department issued antidumping duty questionnaires to CSG and PNA. On June 15, 2005, CSG submitted a letter to the Department withdrawing its request for an administrative review of sales and entries of subject merchandise it exported to the United States during the POR. On July 15, 2005, PNA submitted its Section A questionnaire response. On August 1, 2005, PNA submitted a letter to the Department withdrawing its request for an administrative review of sales and entries of subject merchandise it imported from the Pilkington JVs.

Rescission of Review

Pursuant to 19 CFR 351.213(d)(1), the Department will rescind an administrative review, in whole or in part, if a party that requested a review withdraws the request within 90 days of the date of publication of notice of initiation of the requested review. CSG and PNA withdrew their respective requests for review within the 90-day time limit and no other party requested reviews with respect to these companies. Accordingly, we are rescinding this administrative review as to these companies and will issue appropriate assessment instructions to the U.S. Bureau of Customs and Border Protection with respect to exports from CSG and exports from the Pilkington JVs to PNA for the period April 1, 2004, through March 31, 2005.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (“APO”) of their responsibility concerning the disposition of proprietary information disclosed under APO in accordance with 19 CFR 351.305(a)(3) of the Department's regulations. Timely written notification of the return/destruction of APO materials or conversion to judicial protective order is hereby requested. Failure to comply with the regulations and the terms of an APO is a sanctionable violation.

This notice is in accordance with 19 CFR 351.213(d)(4) of the Department's regulations.

Dated: October 4, 2005.
Barbara E. Tillman,
Acting Deputy Assistant Secretary for Import Administration.

[FR Doc. E5-5588 Filed 10-11-05; 8:45 am]

BILLING CODE 3510-DS-S